DEPARTMENT OF THE INTERIOR

National Park Service

Notice of Inventory Completion: Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from six sites in Kern County, CA.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

An assessment of the human remains, and catalog records and associated documents relevant to the human remains, was made by Phoebe A. Hearst Museum of Anthropology professional staff in consultation with representatives of the Picayune Rancheria of Chukchansi Indians of California; Santa Rosa Indian Community of the Santa Rosa Rancheria, California; Table Mountain Rancheria of California; Tule River Indian Tribe of the Tule River Reservation, California; and Tuolumne Band of Me-Wuk Rancheria of California.

In 1922, human remains representing at least 26 individuals were removed from burials at site CA-Ker-37, a mound site located on the shoreline of former Goose Lake, Kern County, CA, by A. Steinberger of McFarland, CA. The human remains were donated to the Phoebe A. Hearst Museum of Anthropology in the same year. No known individuals were identified. No associated funerary objects are present.

In 1924, human remains representing at least 16 individuals were removed from burials at site CA-Ker-37, Kern County, CA, by E.W. Gifford, and donated to the Phoebe A. Hearst Museum of Anthropology in the same year. No known individuals were identified. The 117 associated funerary objects are 6 textile bag fragments and 111 olivella and clam shell beads.

Characteristics of the associated funerary objects and nonfunerary objects removed from site CA-Ker-37 indicate that the burials date to the Protohistoric period, the 200-year period prior to European contact in the mid-1700s, and to the Historic period.

In 1932, human remains representing at least five individuals, were removed from burials at site CA-Ker-39, a mound site located on the shoreline of former Buena Vista Lake, Kern County, CA, by Mr. and Mrs. W.D. Strong and W.R. Wedel, and were donated to the Phoebe A. Hearst Museum of Anthropology by W.R. Wedel in the same year. Two of the individuals are represented by hair. No known individuals were identified. The six associated funerary objects are one textile fragment and five shell beads.

Characteristics of the associated funerary objects and nonfunerary objects removed from site CA-Ker-39 indicate that the burials date to the Protohistoric period, the 200-year period prior to European contact in the mid-1700s.

In 1933, human remains representing one individual were removed from a burial at site CA-Ker-40, a mound site located on the shoreline of former Buena Vista Lake, Kern County, CA, by W.D. Strong, and were donated to the Phoebe A. Hearst Museum of Anthropology in the same year. No known individual was identified. The human remains consist of hair adhering to the single associated funerary object, a fragment of brown cloth.

In 1948, human remains representing one individual were removed from a burial at site CA-Ker-40, Kern County, CA, by H.S. Riddell and F.A. Riddell, and were donated to the Phoebe A. Hearst Museum of Anthropology in the same year. No known individuals were identified. The two associated funerary objects are stones.

Characteristics of the nonfunerary objects removed from site CA-Ker-40 indicate that the burials date to the Protohistoric period, the 200-year period prior to European contact in the mid-1700s.

In 1924, human remains representing at least four individuals were removed from burials at site CA-Ker-50, a burial site in Elk Hills, near the shoreline of former Buena Vista Lake, Kern County, CA, by W.D. Strong, who donated these human remains to the Phoebe A. Hearst Museum of Anthropology in the same year. No known individuals were identified. The 51 associated funerary objects are fragments of the matting in which the human remains were wrapped at the time of burial, 1 lot of pinkish powder, 2 abalone ornaments, 33 shell beads, 4 bone tubes, 7 projectile points, and 3 projectile point fragments.

Characteristics of the associated funerary objects and nonfunerary objects removed from site CA-Ker-50 indicate that this burial site was in use during the Protohistoric period, the 200-year period immediately prior to European contact in the mid-1700s.

In 1899, human remains representing at least nine individuals were removed from burials at site CA-Ker-53, a habitation and burial site near Buttonwillow, Kern County, CA, by P.M. Jones, who donated the human remains to the Museum of Paleontology, University of California, Berkeley in the same year. Some time prior to 1902, the Museum of Paleontology transferred the human remains to the Phoebe A. Hearst Museum of Anthropology. No known individuals were identified. No associated funerary objects are present.

Characteristics of other objects removed from site CA-Ker-53 indicate that this settlement was inhabited during the Protohistoric period, the 200-year period immediately prior to European contact in the mid-1700s.

In 1949, human remains representing at least 15 individuals were removed from burials at site CA-Ker-74, located on high ground a few miles southeast of the former shoreline of Tulare Lake, Kern County, CA, by members of the California Archaeological Survey, and were donated to the Phoebe A. Hearst Museum of Anthropology in the same year. No known individuals were identified. The 49 associated funerary objects are 35 shell beads, 12 glass beads, and 2 abalone pendants.

Characteristics of the associated funerary objects of Euroamerican origin indicate that the settlement was inhabited between approximately 1810 and 1860.

The burial contexts identify the human remains removed from sites in Kern County, CA, as being Native American. Linguistic evidence indicates that this region of California was inhabited by Native American Yokuts speakers. Archeological research suggests that these burial and habitation sites date to a relatively late time period. Consultation with present-day Yokuts groups documents an oral history of continued habitation of an area encompassing Kern County, CA, that includes the Protohistoric and Historic periods. Historical sources corroborate oral history. Modern descendants of Yokuts speakers are the Picayune Rancheria of Chukchansi Indians of California; Santa Rosa Indian Community of the Santa Rosa Rancheria, California; Table Mountain Rancheria of California; Tule River Indian Tribe of the Tule River Reservation, California; and Tuolumne Band of Me-Wuk Rancheria of California.

Officials of the Phoebe A. Hearst Museum of Anthropology have determined that, pursuant to 25 U.S.C. 3001 (9-10), the human remains described above represent the physical remains of at least 77 individuals of Native American ancestry. Officials of the Phoebe A. Hearst Museum of Anthropology also have determined that, pursuant to 25 U.S.C. 3001 (3)(A), the 226 objects described above are reasonably believed to have been placed with or near individual human remains at the time of death or later as part of the death rite or ceremony. Lastly, officials of the Phoebe A. Hearst Museum of Anthropology have determined that, pursuant to 25 U.S.C. 3001 (2), there is a relationship of shared group identity that can be reasonably traced between the Native American human remains and associated funerary objects and the Picayune Rancheria of Chukchansi Indians of California; Santa Rosa Indian Community of the Santa Rosa Rancheria, California; Table Mountain Rancheria of California; Tule River Indian Tribe of the Tule River Reservation, California; and Tuolumne Band of Me-Wuk Rancheria of California.

Representatives of any other Indian tribe that believes itself to be culturally affiliated with the human remains and associated funerary objects should contact C. Richard Hitchcock, NAGPRA Coordinator, Phoebe A. Hearst Museum of Anthropology, University of California, Berkeley, Berkeley, CA 94720, telephone (510) 642-6096, before August 18, 2003. Repatriation of the human remains and associated funerary objects to the Picayune Rancheria of Chukchansi Indians of California; Santa Rosa Indian Community of the Santa Rosa Rancheria, California; Table Mountain Rancheria of California; Tule River Indian Tribe of the Tule River Reservation, California; and Tuolumne Band of Me-Wuk Rancheria of California may proceed after that date if no additional claimants come forward.

The Phoebe A. Hearst Museum of Anthropology is responsible for notifying the Picayune Rancheria of Chukchansi Indians of California; Santa Rosa Indian Community of the Santa Rosa Rancheria, California; Table Mountain Rancheria of California; Tule River Indian Tribe of the Tule River Reservation, California; and Tuolumne Band of Me-Wuk Rancheria of California that this notice has been published.

Dated: June 12, 2003.
John Robbins,
Assistant Director, Cultural Resources.

[FR Doc. 03-18208 Filed 7-17-01; 8:45 am]

BILLING CODE 4310-70-S